DEPARTMENT OF ENERGY

Federal Energy Regulatory Commission

[Docket No. RP03-44-000]

Enbridge Pipelines (UTOS) L.L.C.; Notice of Filing of Offer of Settlement

November 1, 2002.

Take notice that on October 28, 2002, Enbridge Pipelines (UTOS) L.L.C. (UTOS), pursuant to Rule 602 of the Commission's Rules of Practice and Procedure, 18 CFR 385-602 (2002), filed an Offer of Settlement (Settlement) in the captioned proceedings.

UTOS states that the Settlement resolves UTOS's general Section 4(e) rate filing obligation presently set for January 2, 2003, pursuant to the Commission's October 8, 1998 Notice of Extension of Time in Docket Nos. RP94-161-000, et al. UTOS further states that shippers representing approximately 91% of its present system throughput either did not oppose or took no position relative to the Settlement.

According to UTOS, under the Settlement, it will not be required to make such general rate filing, thus permitting its currently effective rates to remain in effect until subsequently changed. As a result, UTOS says, the Settlement promotes administrative efficiencies by providing rate certainty for all concerned, while at the same time avoiding the time and expense that would otherwise be attendant to a general Section 4(e) rate filing.

Pursuant to Rule 602(f)(2) Initial Comments on the Settlement are due by November 18, 2002, and Reply Comments are due by November 27, 2002.

This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-28447 Filed 11-7-02; 8:45 am]

BILLING CODE 6717-01-P